DEPARTMENT OF AGRICULTURE

Forest Service

Notice of Intent To Prepare an Environmental Impact Statement for the Whistle Stop Project on the Chugach National Forest, Kenai Peninsula Borough, AK

AGENCY: Forest Service, USDA.

ACTION: Notice of intent to prepare an environmental impact statement.

SUMMARY: The USDA Forest Service will prepare an Environmental Impact Statement (EIS) on a proposed action to develop a series of remote interconnected backcountry train on-off load platforms along approximately 25 miles of existing Alaska Railroad track. The proposed action calls for six backcountry train on-off load platforms, construction of approximately 44 miles of new backcountry dispersed trail, and development of approximately six backcountry public use cabins and 34 dispersed, hardened backcountry sites for remote camping. The majority of all components of this project would occur on Chugach National Forest land in the Kenai Peninsula Borough.

DATES: Comments concerning the scope of the analysis must be received by June 15, 2005.

The Draft EIS is expected to be filed with the Environmental Protection Agency (EPA) and to be available for public review during the winter of 2005/2006. At that time, EPA will publish a Notice of Availability of the Draft EIS in the Federal Register. The comment period on the Draft EIS will be 45 days from the date the EPA publishes the Notice of Availability in the Federal Register. The Final EIS is scheduled to be completed in the summer of 2006.

ADDRESSES: Address all comments concerning this notice to the Chugach National Forest, ATTN: Whistle Stop Project, P.O. Box 129, Girdwood, AK 99587. E-mail comments may be sent to: comments-chugach-whistle_stop@fs.fed.us.

FOR FURTHER INFORMATION CONTACT: Adam McClory, Glacier Ranger District, Chugach National Forest, (907) 754-2352.

SUPPLEMENTARY INFORMATION: The information presented in this notice is included to help the reviewer determine if they are interested in or potentially affected by the proposed action.

Purpose and Need for Action

The Forest Service seeks to meet the growing demand for dispersed recreation opportunities and growing demands of recreation-based tourism by developing remote, backcountry trails and minimal support facilities adjacent to the existing rail way infrastructure, along with a series of interconnected recreation sites that will provide the public with a unique recreation and travel experience not found anywhere else in the United States. Utilizing the existing infrastructure and transportation service capability of the Alaska Railroad, the Forest Service proposes to create a wide variety of world-class recreation and transportation opportunities for users of the Chugach National Forest. Access would be gained by existing railroad to spectacular ice-capped mountains, glacial lakes, wild rivers and dispersed backcountry campsites, huts and trails, with transportation provided through Alaska Railroad passenger rail cars.

Completion of this project will both better disperse concentration of visitor use and strengthen the ability for Chugach National Forest visitors to get out and experience National Forest lands instead of experiencing them through the “glass window” that currently exists for the majority of Alaska Railroad passengers traveling through this scenic corridor. The purpose and need for this project is to:

• Provide additional backcountry access and better disperse recreation opportunities available to Chugach National Forest visitors while maintaining an Alaskan backcountry experience and maintaining the area's natural quality. With a large land base in the eastern Kenai Peninsula and few existing backcountry recreation facilities, the proposed mix of trails, overnight facilities, viewing platforms and information and education sites will meet the needs of Chugach National Forest visitors for years to come. Use would be better spread throughout the Kenai Peninsula thereby providing users with a more remote, Alaskan backcountry experience. The additional backcountry access that is required due to growing demand will be provided utilizing the existing Alaska Railroad infrastructure and will not necessitate development of new roads.

• Provide opportunities for visitor information and education regarding various forest resources including wildlife and fisheries. The Chugach National Forest Revised Land and Resource Management Plan emphasizes the need to provide Forest visitors with information and education regarding Forest resources. From the glacial movement evident at Spencer Lake, to the dynamic hydrological activity, to the historical remnants scattered along the Alaska Railroad, the Forest Service can provide a diverse view of the natural and human history of the area. Additionally, both Alaska residents and visitors alike are drawn to the annual spawning of various fish species and the incredible diversity of wildlife found in Alaska including brown and black bears, moose, wolves, Dall sheep and mountain goats. Located at each remote Whistle Stop station and throughout the inter-connected trail system, minimally developed backcountry kiosks will interpret the important aspects of each geographical area.

• Provide a unique transportation and recreation experience found nowhere else in the United States, while encouraging transportation dispersal and public safety. Alaska is famous for and attracts a tremendous number of tourists because of its immense glaciers and ice-capped mountains. The Railroad is unquestionably the best land-based transportation route to view and access glaciers. Furthermore, development of this transportation route would diminish somewhat the congestion on the Seward Highway, thereby providing safety on the road while creating significant opportunities to disperse recreation opportunities away from heavy used areas of concentration along the Seward highway.

Implementation of the Whistle Stop project will help meet the purpose and need outlined above and follow direction outlined in the Chugach National Forest Revised Land and Resource Management Plan (CRLRMP). Forestwide direction outlined in the CRLRMP identifies Recreational Opportunities, Access and Facilities as a major area of emphasis to be accomplished through Forest Plan implementation (CRLRMP, 3-1, 3-7-3-9). Three goals identified in this section of the CRLRMP will be met with implementation of the Whistle Stop project including: Maintaining quality settings for nonmotorized recreation opportunities; provide[ing] recreation opportunities for interpretation and education as related to all Forest resources; and expand[ing] recreational capacity by developing new recreational facilities and trails in response to user demands and where appropriate to management area objectives (CRLRMP, 3-8, 3-9). Forest Plan direction for the Kenai Peninsula Geographic Area, where the Whistle Stop project is located, dictates that “during the summer season nonmotorized use will predominate across the area. These opportunities will include hiking, camping, mountain biking, fishing, hunting and mountaineering with opportunities for canoeing, rafting and other forms of boating on lakes and rivers * * * Campgrounds or similar developments (i.e., “Whistle Stop”) along the Alaska Railroad between Moose Pass and Portage may also be available (CRLRMP, 3-15).”

Proposed Action

Recreation Facilities

The project proposal calls for a variety of dispersed recreation facility developments that are summarized below:

▪ Whistle Stop stations. Six backcountry Whistle Stop stations are proposed for development along approximately 25 miles of Alaska Railroad track between Luebner Lake and Trail Creek. The six proposed stops, from north to south include: Luebner Lake, Spencer Lake, Bartlett Glacier, Grandview, Hunter and Trail Creek.

▪ Trail system.

• A system consisting of approximately 44 miles of new trails are proposed for the project area. The backbone of this trail system is the proposed Placer Valley Trail which will connect the Whistle Stops of Luebner Lake, Spencer Lake, Bartlett Glacier and Grandview. Spurs trails off of the Placer Valley Trail will be located in the Spencer Lake, Bartlett Glacier and Grandview areas.

• The majority of the trail system would be designed and actively managed for hiker/pedestrian and bicycle use.

• Easements will be established where necessary to survey, construct and manage certain trail segments that cross other landowners. At this time, proposed trail segments totaling approximately 3 miles cross land owned by the State of Alaska Department of Natural Resources.

• Overnight sites.

• Six public-use cabins are proposed for development along various sections of the trail system.

• Thirty-four dispersed, hardened overnight sites are proposed for development throughout the trail system.

• One group campsite, capable of accommodating at least 150 people is proposed for development in the Spencer Lake area where such uses already occur.

• Wildlife and Scenic viewing platforms.

• Two wildlife viewing platforms, including interpretive kiosks and viewfinders, would be located along the boardwalk trail at the Luebner Lake Whistle Stop.

• A wildlife and scenic viewing platform, including interpretive kiosks and viewfinders, would be located along the boardwalk trail at the Grandview Whistle Stop.

• Rafting take-out locations. The rafting take-out locations at Luebner Lake and Trail Creek will include a platform that will allow for safe transfer of gear from the platform to the rail car. Additionally, at both sites a temporary storage facility (approximately 250 square feet) for rafting gear will be located at these locations from May-September.

Train Schedule

Currently the Alaska Railroad conducts daily business, carrying both freight and passengers, throughout the project area multiple times per day. In terms of passenger business, up to three trains per day visit the project area: The Coastal Classic and Glacier Discovery both operate daily from mid-May to mid-September and a train chartered by Cruise Ship companies periodically traverses the project area.

Preliminary Issues

Listed below are possible issues that may be related to this project, but are not limited to:

• Impacts to wildlife, including brown bears, mountain goats and Dall sheep.

• Impacts to heritage resources throughout the project area.

• Visual impacts due to placement of developed facilities in the backcountry.

• Conflicts between different types of recreation throughout the project area.

Responsible Official

The Forest Supervisor, Chugach National Forest, is the Responsible Official. The address is Chugach National Forest Supervisor's Office, 3301 C Street, Anchorage, AK 99503.

Nature of Decision To Be Made

The Forest Supervisor, as Responsible Official, may decide to: (1) Select the proposed action, (2) select one of the alternatives, (3) select one of the alternatives after modifying the alternative with additional mitigating measures or combinations of activities from other alternatives, or (4) select the no action alternative and take no action at this time.

Comment Requested

The Forest Service would like to know of any issues, concerns, and suggestions you may have about this proposal. Comments should be as fully formed as possible to assist us in the analysis. If you have any questions, or if something is unclear, contact Adam McClory at (907) 754-2352 before submitting your comments. Although comments are welcome at any time, they will be most effective if received by June 15, 2005. Send comments to: Chugach National Forest, ATTN: Whistle Stop Project, P.O. Box 129, Girdwood, AK 99587.

Alternately, e-mail your comments to: comments-chugach-whistle_stop@fs.fed.us.

Public Meetings

Below are the public meeting dates and locations for our scoping meetings:

Chugach National Forest Open House Meetings
Date | Town | Place | Time
May 23, 2005 | Anchorage | UAA Commons Rm. 106 | 5-8 p.m.
May 23, 2005 | Seward | Edgewater Hotel (5th and Railroad Ave.) | 5-8 p.m.
May 24, 2005 | Girdwood | Community Hall | 7-9 p.m.
May 24, 2005 | Moose Pass | Moose Pass School | 6-8 p.m.
May 25, 2005 | Cooper Landing | Community Hall | 5-8 p.m.
June 1, 2005 | Soldotna | Soldotna Sports Center | 5-8 p.m.

Authorization: National Environmental Policy Act of 1969 as amended (42 U.S.C. 4321-4346); Council on Environmental Quality Regulations (40 CFR parts 1500-1508); U.S. Department of Agriculture NEPA Policies and Procedures (7 CFR part 1b).

Reviewer's Obligation: The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wisc. 1980). Because of these court rulings, it is very important that those interested in this proposed action participate by the close of the comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewer may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: May 10, 2005.
Joe L. Meade,
Forest Supervisor, Chugach National Forest.

[FR Doc. 05-9758 Filed 5-13-05; 8:45 am]

BILLING CODE 3410-11-P